DEPARTMENT OF THE INTERIOR

Bureau of Land Management

[MT-060-1430-ET; MTM 68761]

Notice of Proposed Withdrawal Extension and Opportunity for Public Meeting; Montana

AGENCY: Bureau of Land Management, Interior.

ACTION: Notice.

SUMMARY: The Department of the Interior proposes to extend the duration of Public Land Order (PLO) No. 6674 for an additional 20-year term. PLO No. 6674 withdrew 320 acres of public lands in Fergus County, Montana, from settlement, sale, location, or entry under the general land laws, including the United States mining laws to protect the Bureau of Land Management (BLM) Blacktail Creek Paleontological Site. This notice also gives an opportunity to comment on the proposed action and to request a public meeting. The lands have been and will remain open to mineral leasing.

DATES: Comments and requests for a public meeting must be received by April 21, 2008.

ADDRESSES: Comments and meeting requests should be sent to the BLM Lewistown Field Manager, P.O. Box 1160, Lewistown, Montana 59457.

FOR FURTHER INFORMATION CONTACT: Debbie Tucek, BLM, Lewistown Field Office, (406) 538-1931, or at the above address, or Sandra Ward, BLM, Montana State Office, (406) 896-5052, or at 5001 Southgate Drive, Billings, Montana 59101-4669.

SUPPLEMENTARY INFORMATION: The withdrawal created by PLO No. 6674 (53 FR 15041) will expire April 26, 2008, unless extended. The Assistant Secretary for Land and Minerals Management has approved the BLM petition to file an application to extend PLO No. 6674 for an additional 20-year period. The withdrawal was made to protect the Blacktail Creek Paleontological Site on public lands described as follows:

Principal Meridian, Montana

T. 13 N., R. 22 E.,

Sec. 6, W½SE¼;

Sec. 8, SW¼NW¼.

T. 14 N., R. 22 E.,

Sec. 33, N½SE¼;

Sec. 34, N½SW¼ and SE¼NE¼.

The areas described aggregate 320 acres in Fergus County.

The purpose of the proposed extension is to continue the withdrawal created by PLO No. 6674 for an additional 20-year term to protect the paleontological resources of the Blacktail Creek Paleontological Site.

As extended, the withdrawal would not alter the applicability of those public land laws governing the use of lands under lease, license, or permit or governing the disposal of the mineral or vegetative resources other than under the mining laws.

The use of a right-of-way or interagency or cooperative agreement would not adequately protect the paleontological resources in the area.

There are no suitable alternative sites available. Significant paleontological resources are located at the Blacktail Creek Paleontological Site on the above-described public lands.

Water will not be needed to fulfill the purpose of the withdrawal.

For a period of 90 days from the date of publication of this notice, all persons who wish to submit comments, suggestions, or objections in connection with the proposed withdrawal extension may present their views in writing to the BLM Lewistown Field Office at the address noted above.

Comments, including names and street addresses of respondents, will be available for public review at the BLM Lewistown Field Office at the address noted above during regular business hours 7:45 a.m. to 4:30 p.m., Monday through Friday, except holidays. Before including your address, phone number, e-mail address, or other personal identifying information in your comments, be advised that your entire comment—including your personal identifying information—may be made publicly available at any time. While you can ask us in your comment to withhold from public review your personal identifying information, we cannot guarantee that we will be able to do so.

Notice is hereby given that an opportunity for a public meeting is afforded in connection with the proposed withdrawal extension. All interested persons who desire a public meeting for the purpose of being heard on the proposed withdrawal extension must submit a written request to the BLM Lewistown Field Manager within 90 days from the date of publication of this notice. If the authorized officer determines that a public meeting will be held, a notice of the time and place will be published in the Federal Register at least 30 days before the scheduled date of the meeting. This withdrawal extension proposal will be processed in accordance with the applicable regulations set forth in 43 CFR 2310.4.

(Authority: 43 CFR 2310.3-1)

Dated: January 14, 2008.
Theresa M. Hanley,
Deputy State Director, Division of Resources.

[FR Doc. E8-953 Filed 1-18-08; 8:45 am]

BILLING CODE 4310-$$-P